DEPARTMENT OF THE INTERIOR

National Park Service

National Register of Historic Places; Notification of Pending Nominations and Related Actions

Nominations for the following properties being considered for listing or related actions in the National Register were received by the National Park Service before July 4, 2009. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by July 28, 2009.

J. Paul Loether,
Chief, National Register of Historic Places/National Historic Landmarks Program.

ALABAMA

Jefferson County

Belcher-Nixon Building, 1728 29th St. Ensley, Birmingham, 09000603

Downtown Ensley Historic District, 17th-21st Sts. Ensley & Avenues C-H, Birmingham, 09000604

Lee County

Darden, Dr. J.W., House, 1323 Auburn St., Opelika, 09000605

Monroe County

Monroeville Downtown Historic District, Parts of N. and S. Alabama Aves., E. and W. Claiborne St., N. and S. Mount Pleasant Aves., Pineville Rd., Monroeville, 09000606

Winston County

Feldman's Department Store, 800 20th St., Haleyville, 09000607

ARIZONA

Cochise County

Schilling Ranch Historic District, (Cattle Ranching in Arizona in the Modern Era, 1945-1970) 6396 N. Schilling Ranch Rd., Corral, 09000608

Maricopa County

Bennitt Mansion, 126 E. County Club Dr., Phoenix, 09000609

IOWA

Guthrie County

Garst, Roswell and Elizabeth, Farmstead Historic District, 1390 IA 141, Coon Rapids, 09000610

MASSACHUSETTS

Essex County

Samuel Brown School, 200 Lynn St., Peabody, 09000611

Suffolk County

Evergreen Cemetery, 2060 Commonwealth Ave., Boston, 09000612

VIRGINIA

Bedford County

Liberty Hall, 12000 E. Lynchburg Salem Turnpike, Forest, 09000613

Fauquier County

Orlean Historic District, Area including parts of John Barnton Payne and Leeds Manor Rds., Orlean, 09000615

Woodside, 9525 Maidstone Rd., Delaplane, 09000616

Goochland County

First Union School (Rosenwald Schools in Virginia MPS), 1522 Old Mill Rd., Crozier, 09000614

Salem Independent city

Valley Railroad Bridge, 1002 Newman Dr., Salem, 09000617

[FR Doc. E9-16421 Filed 7-10-09; 8:45 am]

BILLING CODE P